NATIONAL AERONAUTICS AND SPACE ADMINISTRATION

[Notice (01-016)]

NASA Advisory Council (NAC), Aero-Space Technology Advisory Committee (ASTAC); Propulsion Systems Subcommittee; Meeting

AGENCY: National Aeronautics and Space Administration.

ACTION: Notice of meeting.

SUMMARY: In accordance with the Federal Advisory Committee Act, Pub. L. 92-463, as amended, the National Aeronautics and Space Administration announces a NASA Advisory Council, Aero-Space Technology Advisory Committee, Propulsion Systems Subcommittee meeting.

DATES: Thursday, February 15, 2001, 8 a.m. to 5 p.m. and Friday, February 16, 2001, 8 a.m. to 4 p.m.

ADDRESSES: National Aeronautics and Space Administration, John H. Glenn Research Center at Lewis Field, Administration Building, Room 215, 21000 Brookpark Road, Cleveland, OH 44135.

FOR FURTHER INFORMATION CONTACT: Dr. Arun K. Sehra, National Aeronautics and Space Administration, John H. Glenn Research Center at Lewis Field, 21000 Brookpark Road, Cleveland, OH 44135, 216/433-3397.

SUPPLEMENTARY INFORMATION: The meeting will be open to the public up to the seating capacity of the room. The agenda for the meeting is as follows:

—Aerospace Programmatic Overview

—NASA GRC Aeropropulsion Overview

—Ultra-Efficient Engine Technology Review

—Propulsion Systems Base R&T Prog. Review

—GPRA Milestones Review

It is imperative that the meeting be held on these dates to accommodate the scheduling priorities of the key participants.

Dated: January 16, 2001.
Beth M. McCormick,
Advisory Committee Management Officer, National Aeronautics and Space Administration.

[FR Doc. 01-1776 Filed 1-19-01; 8:45 am]

BILLING CODE 7510-01-U